DEPARTMENT OF THE INTERIOR

National Park Service

[NPS-WASO-NAGPRA-NPS0040017; PPWOCRADN0-PCU00RP14.R50000]

Notice of Intended Repatriation: Roseland School District, Santa Rosa, CA

AGENCY: National Park Service, Interior.

ACTION: Notice.

SUMMARY: In accordance with the Native American Graves Protection and Repatriation Act (NAGPRA), the Roseland School District intends to repatriate certain cultural items that meet the definition of unassociated funerary objects, sacred objects, and/or objects of cultural patrimony and that have a cultural affiliation with the Indian Tribes or Native Hawaiian organizations in this notice.

DATES: Repatriation of the cultural items in this notice may occur on or after May 30, 2025.

ADDRESSES: Raúl Guerrero, Roseland School District, 1691 Burbank Avenue, Santa Rosa, CA 95407, telephone (707) 545-0102, email rguerrero@roselandsd.org.

SUPPLEMENTARY INFORMATION: This notice is published as part of the National Park Service's administrative responsibilities under NAGPRA. The determinations in this notice are the sole responsibility of the Roseland School District, and additional information on the determinations in this notice, including the results of consultation, can be found in the summary or related records. The National Park Service is not responsible for the determinations in this notice.

Abstract of Information Available

A total of 43 lots of cultural items have been requested for repatriation. The 37 lots of unassociated funerary objects are shell, bone, clay and glass beads; shell ornaments; unmodified shells; a flaked stone tool; a stone sphere; and a charmstone. The six lots of objects of cultural patrimony are two scale replicas of traditional roundhouse buildings; a feather hair ornament; wood whistles; and a leather and glass bead medicine bag. The items were collected by Roseland School District Indian Museum staff over a period of time between 1975 and 2021, and were housed at the Museum on Roseland School District property until 2024. In 2024, the items were transferred to Sonoma State University for temporary housing due to mold and water damage in the Museum building. No documentation regarding the acquisition or geographic origin of the items has been found. The two roundhouse scale replicas have been identified as made by esteemed Pomo Elder Milton Bun Lucas. The remaining items are typical of those used by Pomo people in the Sonoma County region. The age of the items is uncertain, due to lack of information regarding their acquisition. The presence of potentially hazardous substances used to treat any of the cultural items is unknown, due to lack of documentation concerning the origins and history of the items. However, recent treatment with hazardous preservatives is unlikely, as the items in the museum were intended to be in close proximity to young children. Additionally, insects were found on or in the vicinity of some items, suggesting that chemicals had not been used to deter such infestations.

Determinations

The Roseland School District has determined that:

• The 37 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The six objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Kashia Band of Pomo Indians of the Stewarts Point Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 30, 2025. If competing requests for repatriation are received, the Roseland School District must determine the most appropriate requestor prior to repatriation. Requests for joint repatriation of the cultural items are considered a single request and not competing requests. The Roseland School District is responsible for sending a copy of this notice to the Indian Tribes and Native Hawaiian organizations identified in this notice and to any other consulting parties.

Authority: Native American Graves Protection and Repatriation Act, 25 U.S.C. 3004 and the implementing regulations, 43 CFR 10.9.

Dated: April 15, 2025
Melanie O'Brien,
Manager, National NAGPRA Program.

[FR Doc. 2025-07418 Filed 4-29-25; 8:45 am]

BILLING CODE 4312-52-P